DEPARTMENT OF COMMERCE

Foreign-Trade Zones Board

[Order No. 1789]

Expansion of Foreign-Trade Zone 276; Kern County, CA

Pursuant to its authority under the Foreign-Trade Zones Act of June 18, 1934, as amended (19 U.S.C. 81a-81u), the Foreign-Trade Zones Board (the Board) adopts the following Order:

Whereas, the County of Kern Department of Airports, grantee of Foreign-Trade Zone 276, submitted an application to the Board for authority to expand FTZ 276 to include a site in Shafter, California, within the Bakersfield U.S. Customs and Border Protection port of entry (FTZ Docket 28-2011, filed 04/28/2011);

Whereas, notice inviting public comment has been given in the Federal Register (76 FR 25300, 05/04/2011) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 276 is approved, subject to the FTZ Act and the Board's regulations, including Section 400.28, and further subject to the Board's standard 2,000-acre activation limit.

Dated: Signed at Washington, DC, this 13th day of October 2011.
Ronald K. Lorentzen,
Deputy Assistant Secretary for Import Administration, Alternate Chairman, Foreign-Trade Zones Board.

Andrew McGilvray,
Executive Secretary.

[FR Doc. 2011-27450 Filed 10-21-11; 8:45 am]

BILLING CODE P